DEPARTMENT OF ENERGY

Federal Energy Regulatory Commission

[Docket No. CP98-795-001]

Transwestern Pipeline Company; Notice of Motion To Vacate

February 20, 2001.

On January 12, 2001, Transwestern Pipeline Company (Transwestern), P.O. Box 3330, Omaha, Nebraska 68103-0330, filed in Docket No. CP98-795-001 a motion to vacate that portion of an order issued April 1, 1999, in Docket No. CP98-795-001 which permitted Transwestern to relocate its Crawford Compressor Station in Eddy County, New Mexico and to abandon by sale to Duke Energy Field Services (Duke) 27.2 miles of the existing Crawford 16-inch lateral, also in Eddy County, New Mexico extending from that compressor station to its downstream connection point with the WT-1 Compressor Station, all as more fully set forth in the motion which is on file with the Commission and open to public inspection. The filing may be viewed at http://www.ferc.fed.us/online/rims.htm (call 202-208-2222 for assistance).

It is stated that, after reassessing the gas supply situation at a processing plant recently purchased from Union Pacific Highlands Gathering and Processing Company, Duke has determined that the supply reserves are not as large as previously anticipated. As a result, Transwestern advises that closing of the sale to Duke of the compressor station and the downstream facilities will not take place. Therefore, Transwestern requests that the Commission vacate that portion of the April 1, 1999, order.

Questions regarding the details of this motion should be directed to Keith Petersen, at (402)-398-7319.

Any person wishing to obtain legal status by becoming a party to the proceedings for this project should, on or before March 2, 2001, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Comments and protests may be filed electronically via the internet in lieu of paper. See, 18 CFR 385.2001(a)(1)(ii) and the instructions on the Commission's web site at http://www.ferc.fed.us/efi/doorbell.htm.

If the Commission decides to set the motion for a formal hearing before an Administrative Law Judge, the Commission will issue another notice describing that process. At the end of the Commission's review process, a final Commission order approving or denying a certificate will be issued.

David P. Boergers,
Secretary.

[FR Doc. 01-4580 Filed 2-23-01; 8:45 am]

BILLING CODE 6717-01-M